DEPARTMENT OF THE INTERIOR

National Park Service

[NPS-WASO-NAGPRA-NPS0030424; PPWOCRADN0-PCU00RP14.R50000]

Notice of Inventory Completion: Indiana University, Bloomington, IN

AGENCY: National Park Service, Interior.

ACTION: Notice.

SUMMARY: Indiana University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Indiana University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Indiana University at the address in this notice by August 19, 2020.

ADDRESSES: Dr. Jayne-Leigh Thomas, NAGPRA Director, Indiana University, Student Building 318, 701 E. Kirkwood Avenue, Bloomington, IN 47405, telephone (509) 731-5372, email thomajay@indiana.edu.

SUPPLEMENTARY INFORMATION: Notice is here given in accordance with the Native American Graves Protection and Repatriation Act (NAGPRA), 25 U.S.C. 3003, of the completion of an inventory of human remains and associated funerary objects under the control of the Indiana University, Bloomington, IN. The human remains and associated funerary objects were removed from Angel Mounds, Vanderburgh County, IN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Indiana University professional staff in consultation with representatives of the Absentee-Shawnee Tribe of Indians of Oklahoma; Chippewa Cree Indians of the Rocky Boy's Reservation, Montana (previously listed as Chippewa-Cree Indians of the Rocky Boy's Reservation, Montana); Citizen Potawatomi Nation, Oklahoma; Delaware Nation, Oklahoma; Delaware Tribe of Indians; Eastern Shawnee Tribe of Oklahoma; Forest County Potawatomi Community, Wisconsin; Hannahville Indian Community, Michigan; Kaw Nation, Oklahoma; Match-e-be-nash-she-wish Band of Pottawatomi Indians of Michigan; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as Huron Potawatomi, Inc.); Omaha Tribe of Nebraska; Peoria Tribe of Indians of Oklahoma; Pokagon Band of Potawatomi Indians, Michigan and Indiana; Ponca Tribe of Nebraska; Prairie Band Potawatomi Nation (previously listed as Prairie Band of Potawatomi Nation, Kansas); Quapaw Nation (previously listed as The Quapaw Tribe of Indians); Red Lake Band of Chippewa Indians, Minnesota; Sac & Fox Nation, Oklahoma; Saginaw Chippewa Indian Tribe of Michigan; Seneca-Cayuga Nation (previously listed as Seneca-Cayuga Tribe of Oklahoma); Shawnee Tribe; The Osage Nation (previously listed as Osage Tribe); and the Wyandotte Nation.

The Bad River Band of the Lake Superior Tribe of Chippewa Indians of the Bad River Reservation, Wisconsin; Bay Mills Indian Community, Michigan; Grand Traverse Band of Ottawa and Chippewa Indians, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Traverse Bay Bands of Odawa Indians, Michigan; Minnesota Chippewa Tribe, Minnesota (Six component reservations: Bois Forte Band (Nett Lake); Fond du Lac Band; Grand Portage Band; Leech Lake Band; Mille Lacs Band; White Earth Band); Omaha Tribe of Nebraska; Ottawa Tribe of Oklahoma; Red Cliff Band of Lake Superior Chippewa Indians of Wisconsin; Sac & Fox Nation of Missouri in Kansas and Nebraska; Sac & Fox Tribe of the Mississippi in Iowa; Sault St. Marie Tribe of Chippewa Indians, Michigan; Seneca Nation of Indians (previously listed as Seneca Nation of New York); Sokaogon Chippewa Community, Wisconsin; St. Croix Chippewa Indians of Wisconsin; Stockbridge Munsee Community, Wisconsin; Tonawanda Band of Seneca (previously listed as Tonawanda Band of Seneca Indians of New York); and the Turtle Mountain Band of Chippewa Indians of North Dakota were invited to consult but did not participate.

Hereafter listed as “The Consulted and Invited Tribes.”

History and Description of the Remains

Between 1939 and 2012, human remains representing, at minimum, 725 individuals were removed from Angel Mounds in Vanderburgh County, IN. These human remains are represented both by individual burials and single elements. No known individuals were identified. The 91 associated funerary objects are one lot of projectile points, one lot of chert flakes, one lot of chert blanks, one lot of abraiding stones, one lot of cannel coal fragments, one lot of anvils, one lot of pecking stones, one lot of celts, one lot of galena fragments, one lot of sandstone fragments, one lot of limestone fragments, one lot of fire cracked rocks, one lot of stones, one lot of granite fragments, one lot of slate fragments, one lot of concretions, one lot of fossilized stones, one lot of hammerstones, one lot of ceramic vessels, one lot of ceramic sherds, one lot of ceramic pipes, one lot of ceramic discs, one lot of ceramic beads, one lot of china fragments, one lot of daub fragments, one lot of clay balls, one lot of ceramic objects, one lot of ceramic earplugs, one lot of clay fragments, one lot of effigy heads, one lot of perforated discs, one lot of ceramic pellets, one lot of ceramic trowels, one lot of burned clay fragments, one lot of polished bone fragments, one lot of bone pins, one lot of fishhooks, one lot of turtle shell fragments, one lot of charred wood, one lot of faunal bones, one lot of bone awls, one lot of wolf incisors, one lot of animal tooth fragments, one lot of antlers, one lot of shell fragments, one lot of shell earpins, one lot of charcoal fragments, one lot of wood fragments, one lot of charred nuts, one lot of burned corn, one lot of vegetable materials, one lot of charred seeds, one lot of corn kernels, one lot of bean seeds, one lot of black organic materials, one lot of bark fragments, one lot of soil samples, one lot of metal fragments, one lot of copper fragments, one lot of tinklers, one lot of felt with brass tinklers, one lot of fabric with brass tinklers, one lot of beaded fabric fragments, one lot of black glass beads, one lot of blue glass beads, one lot of brass bells, one lot of brass bracelets, one lot of brass crosses, one lot of copper hair beads, one lot of brass spiral rings, one lot of brass strips, one lot of brass tacks, one lot of brass triangles, one lot of cord, one lot of felt fragments, one lot of glass bottle fragments, one lot of iron fragments, one lot of lead fragments, one lot of silver buckles, one lot of silver rings, one lot of silver triangles, one lot of steel scissors, one lot of tin triangles, one lot of vermillion, one lot of white glass garment beads, one lot of white glass necklace beads, one lot of wooden combs, one lot of fabric fragments, one lot of white buttons, one lot of brown buttons, and one lot of black rings.

Angel Mounds is a Mississippian mound complex on the Ohio River in southern Indiana. Three mortuary distinctions are identified, based on mortuary practice, site location, superposition, and associated objects or furnishings. Interments span nearly 1000 years. The first mortuary distinction has been culturally affiliated with the Quapaw Nation (previously listed as The Quapaw Tribe of Indians). Folklore and oral traditions indicate that the Quapaw originated in the Lower Ohio River Valley, and eventually moved downstream to reside on both sides of the Mississippi River. Numerous historical accounts discuss the Quapaw as having territory and villages established along the Ohio River. The Quapaw language is considered a Dhegian language, which is a group of Sioux languages. The tribes speaking Dhegian languages are historically known to have had aboriginal territory in the Ohio River Valley. Artifacts are consistent with several aspects of later Quapaw material culture.

The second mortuary distinction is characterized by stone-lined interments constructed with sandstone slabs, slate, and cannel coal. In some instances, these burials are intrusive. Cultural continuity between Late Mississippian period individuals and modern-day Shawnee Tribes is demonstrated by archeological, historical, geographical, and linguistic evidence. Historical accounts and oral traditions place the Shawnee in southern Indiana and along the Ohio River during the late Mississippian period, elsewhere known as the Fort Ancient period. As early as the 1820s, historical and ethnographic documents attributed stone-box grave internments in the Cumberland and Ohio River valleys to the Shawnee.

The third mortuary distinction is represented at Angel Mounds by a single burial, likely 1750-1825 A.D. During this time period, southern Indiana is known to have been occupied by the people of the Miami, Peoria, and the Delaware Tribes before their removal to Oklahoma in the mid-18th century. Based on geographical, historical, and oral traditional information, a relationship of shared group identity can be reasonably traced between the Historic Period Native American group to which these human remains belong and the Miami Tribe of Oklahoma, Peoria Tribe of Indians of Oklahoma, Delaware Nation, Oklahoma and the Delaware Tribe of Indians.

Determinations Made by Indiana University

Officials of Indiana University have determined that:

• Pursuant to 25 U.S.C. 3001(9), the human remains described in this notice represent the physical remains of 725 individuals of Native American ancestry.

• Pursuant to 25 U.S.C. 3001(3)(A), the 91 objects described in this notice are reasonably believed to have been placed with or near individual human remains at the time of death or later as part of the death rite or ceremony.

• Pursuant to 25 U.S.C. 3001(2), there is a relationship of shared group identity that can be reasonably traced between the Native American human remains and associated funerary objects and the Absentee-Shawnee Tribe of Indians of Oklahoma; Delaware Nation, Oklahoma; Delaware Tribe of Indians; Eastern Shawnee Tribe of Oklahoma; Miami Tribe of Oklahoma; Peoria Tribe of Indians of Oklahoma; Quapaw Nation (previously listed as The Quapaw Tribe of Indians); and the Shawnee Tribe (hereafter referred to as “The Tribes”).

Additional Requestors and Disposition

Lineal descendants or representatives of any Indian Tribe or Native Hawaiian organization not identified in this notice that wish to request transfer of control of these human remains and associated funerary objects should submit a written request with information in support of the request to Dr. Jayne-Leigh Thomas, NAGPRA Director, Indiana University, Student Building 318, 701 E Kirkwood Avenue, Bloomington, IN 47405, telephone (509) 731-5372, email thomajay@indiana.edu, by August 19, 2020. After that date, if no additional requestors have come forward, transfer of control of the human remains and associated funerary objects to The Tribes may proceed.

Indiana University is responsible for notifying The Consulted and Invited Tribes that this notice has been published.

Dated: June 4, 2020.
Melanie O'Brien,
Manager, National NAGPRA Program.

[FR Doc. 2020-15581 Filed 7-17-20; 8:45 am]

BILLING CODE 4312-52-P